DEPARTMENT OF THE INTERIOR

National Park Service

Notice of Inventory Completion: Brigham Young University, Museum of Peoples and Cultures, Provo, UT

AGENCY: National Park Service, Interior.

ACTION: Notice.

Notice is here given in accordance with the Native American Graves Protection and Repatriation Act (NAGPRA), 25 U.S.C. 3003, of the completion of an inventory of human remains in possession of the Brigham Young University, Museum of Peoples and Cultures, Provo, UT. The human remains were removed from Milliard County, UT.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Brigham Young University, Museum of Peoples and Cultures professional staff in consultation with representatives of the Paiute-Shoshone Tribe of the Fallon Reservation and Colony, Nevada; San Juan Southern Paiute Tribe of Arizona; Summit Lake Paiute Tribe of Nevada; Walker River Paiute Tribe of the Walker River Reservation, Nevada; and Yerington Paiute Tribe of the Yerington Colony & Campbell Ranch, Nevada.

At an unknown time, human remains representing a minimum of two individuals were removed from an unknown location (42MD) near Garrison, Milliard County, UT, by a private collector. In 1988, the human remains were donated by LaVon Rowley to the Museum of Peoples and Cultures (Catalog No. 1988.031.00001-00006; 1988.031.00008-00019). No known individuals were identified. No associated funerary objects are present.

Based on the general appearance and cultural features present on the surface at the time of the removal from the burial sites, the sites were determined to be Southern Paiute. The likely provenience of the human remains in Milliard County supports a Southern Paiute cultural affiliation. In addition, consultations with Southern Paiute representatives support the identification of the two individuals as Southern Paiute. Descendants of the Southern Paiute are members of the Paiute-Shoshone Tribe of the Fallon Reservation and Colony, Nevada; San Juan Southern Paiute Tribe of Arizona; Summit Lake Paiute Tribe of Nevada; Walker River Paiute Tribe of the Walker River Reservation, Nevada; and Yerington Paiute Tribe of the Yerington Colony & Campbell Ranch, Nevada.

Officials of Brigham Young University, Museum of Peoples and Cultures have determined that, pursuant to 25 U.S.C. 3001 (9-10), the human remains described above represent the physical remains of two individuals of Native American ancestry. Officials of Brigham Young University, Museum of Peoples and Cultures also have determined that, pursuant to 25 U.S.C. 3001 (2), there is a relationship of shared group identity that can be reasonably traced between the Native American human remains and the Paiute-Shoshone Tribe of the Fallon Reservation and Colony, Nevada; San Juan Southern Paiute Tribe of Arizona; Summit Lake Paiute Tribe of Nevada; Walker River Paiute Tribe of the Walker River Reservation, Nevada; and Yerington Paiute Tribe of the Yerington Colony & Campbell Ranch, Nevada.

Representatives of any other Indian tribe that believes itself to be culturally affiliated with the human remains should contact Paul Stavast, Brigham Young University, Museum of Peoples and Cultures, 105 Allen Hall, Provo, UT 84602-3600, telephone (801) 422-0020, before October 10, 2008. Repatriation of the human remains to the Paiute-Shoshone Tribe of the Fallon Reservation and Colony, Nevada; San Juan Southern Paiute Tribe of Arizona; Summit Lake Paiute Tribe of Nevada; Walker River Paiute Tribe of the Walker River Reservation, Nevada; and Yerington Paiute Tribe of the Yerington Colony & Campbell Ranch, Nevada may proceed after that date if no additional claimants come forward.

Brigham Young University, Museum of Peoples and Cultures is responsible for notifying the Paiute-Shoshone Tribe of the Fallon Reservation and Colony, Nevada; San Juan Southern Paiute Tribe of Arizona; Summit Lake Paiute Tribe of Nevada; Walker River Paiute Tribe of the Walker River Reservation, Nevada; and Yerington Paiute Tribe of the Yerington Colony & Campbell Ranch, Nevada that this notice has been published.

Dated: August 26, 2008
Sherry Hutt,
Manager, National NAGPRA Program.

[FR Doc. E8-21008 Filed 9-9-08; 8:45 am]

BILLING CODE 4312-50-S